DEPARTMENT OF VETERANS AFFAIRS

Notice of Request for Information Regarding Veterans Outdoor Recreation

AGENCY: Department of Veterans Affairs.

ACTION: Request for information.

SUMMARY: The Department of Veterans Affairs (VA) is requesting information to assist in implementing the statutory requirements of the Veterans Comprehensive Prevention, Access to Care, and Treatment (COMPACT) Act of 2020. The COMPACT Act mandates VA to establish an interagency task force to be known as the Task Force on Outdoor Recreation for Veterans (Task Force). The Task Force will carry out its duties in consultation with appropriate veterans outdoor recreation groups, and through this request for information, VA seeks comments on various topics from these groups to help inform the work and ultimately the recommendations of the Task Force. This effort aligns with the Administration's America the Beautiful initiative, which seeks to improve opportunities for outdoor recreation and address inequitable access to nature and its benefits. Feedback from the public will also help inform the work ahead.

DATES: Comments must be received on or before March 25, 2022.

ADDRESSES: Comments may be submitted through www.regulations.gov. Comments should indicate that they are submitted in response to “Notice of Request for Information Regarding Veterans Outdoor Recreation.” Comments received will be available at www.regulations.gov for public viewing, inspection or copies.

FOR FURTHER INFORMATION CONTACT: Maria D. Llorente, M.D., Deputy to the Assistant Under Secretary for Health, Patient Care Services, 12PCS, Veterans Health Administration, 810 Vermont Avenue NW, Washington, DC 20420; 202-461-7800. This is not a toll-free telephone number.

SUPPLEMENTARY INFORMATION: Section 203 of the COMPACT Act, requires VA to establish the Task Force not later than 18 months after the date on which the national emergency declared by the President, pursuant to the National Emergencies Act (50 U.S.C. 1601 et seq.) with respect to the Coronavirus Disease 2019 (COVID-19), expires. The Task Force is responsible for identifying opportunities to formalize coordination between VA, public land agencies and partner organizations regarding the use of public lands and other outdoor spaces for facilitating health and wellness for veterans and their caregivers; it is also charged with identifying barriers that exist to providing veterans with opportunities to augment the delivery of services for health and wellness through the use of outdoor recreation on public lands and other outdoor spaces and developing recommendations to better facilitate the use of public lands and other outdoor spaces for promoting wellness and facilitating the delivery of health care and therapeutic interventions for veterans. The Task Force will be composed of representatives from VA; the Departments of Interior, Health and Human Services, Agriculture, Defense and Homeland Security; the Army Corps of Engineers; at least two representatives from veterans service organizations; as well as others determined appropriate by VA. The Task Force is required to carry out its duties in consultation with appropriate veterans outdoor recreation groups. These would include organizations that provide adaptive sports opportunities; those that support veterans and their families and caregivers through outdoor recreational activities; those that offer outdoor recreation and nature experiences for overall health and well-being; and those that utilize outdoor recreation as an additional strategy to cope with posttraumatic stress disorder and other psychological sequelae of military service. Section 203 defines public lands to mean any recreational lands under the jurisdiction of the Federal Government or a State or local government.

Consultation With Interested Parties

The COMPACT Act requires VA to consult with appropriate veterans outdoor recreation groups to help inform the duties of the Task Force. This request for information will facilitate the consultation required by the COMPACT Act. Responses to this request for information will be used to inform the work of the Task Force. VA invites individuals, groups and entities to reply to the questions presented below. Commenters are encouraged to provide complete but concise responses to the questions outlined below. Please note that VA will not respond to comments or other questions regarding policies, plans, decisions or issues regarding this notice; however, VA reserves the right to choose to contact individual commenters, and such communication would serve to further clarify their written comments. Comments received in response to this notice will be evaluated and, as appropriate, incorporated into the consultation provided to the Task Force for its duties under this law.

Request for Information

To accomplish the duties of the Task Force, consistent with and pursuant to section 203 of the COMPACT Act, the Secretary seeks information on the topics and issues listed below. Each responding group is requested to submit only one response. Please provide the name of your group or organization and contact information. Commenters do not need to address every question and should focus on those that relate to their expertise or perspectives. To the extent possible, please clearly indicate which topics and issues you address in your response.

A. Identify opportunities to formalize coordination between VA, public land agencies and partner organizations regarding the use of public lands and other outdoor spaces for facilitating health and wellness for veterans (section 203(d)(1)(A)).

1. Does your group offer veterans outdoor recreational activities locally, State-wide, regionally (e.g., Southwestern United States) or nationally?

2. What types of outdoor recreational activities or experiences do you provide (e.g., hiking, fly-fishing, sailing, hunting, skiing, rafting, rock climbing, etc.)? Does your organization provide adaptive sports and recreation for veterans with disabilities? Does your organization primarily serve a local town, city or comparable unit; State, region or the entire country?

3. Do you currently conduct programs on public lands such as national forests, national parks, national wildlife refuges, national recreation areas, other Federal or State lands or public parks? What is the form of your relationship with public land managers (e.g., memorandum of understanding or agreement; permit; contract or other agreement; or something informal)?

4. Does your organization offer outdoor recreation with a focus on specific populations of veterans (e.g., women, racial/ethnic minority, LGBTQ+ (lesbian, gay, bisexual, transgender, queer, plus), seniors, disabled, etc.)?

5. Does your organization offer outdoor recreation with a focus on veterans with specific health conditions (e.g., paralyzed, spinal cord injured or other disability; visual impairments; mental illness; substance use disorders; chronic pain; etc.)? How are your staff members trained to address the needs of the veterans?

6. How many individual veterans are served by your group annually?

7. What types of outdoor recreation opportunities in public lands, specifically designed to enhance the overall health and wellness of veterans, would you like to see (provide a short description in 2-3 sentences)?

8. Does your group charge veterans fees to participate? Is your group registered in the System for Award Management (www.sam.gov)?

9. Does your group employ veterans to work with other veterans in these outdoor recreation activities?

10. Does your group include the families or caregivers of veterans in the recreational activities?

11. Does your group incorporate spiritual care as a component of the outdoor recreation experience?

12. Does your group utilize or include animals in outdoor activities (e.g., equine therapy, service animals, etc.)? If so, please describe (provide a short description in 2-3 sentences).

13. How does your group communicate and execute outreach to veterans and/or their families and caregivers about your outdoor recreation activities?

14. Are you currently coordinating your outdoor recreation activities with a local VA medical facility or a local adaptive sports program that receives funding through VA's Grants for Adaptive Sports Programs for Disabled Veterans and Disabled Members of the Armed Forces Program? If not, have you tried to do so? If so, how were you able to do so (for example, a memorandum of understanding, grant, through volunteer services, etc.)?

15. How do you manage physical and emotional risks of veteran participants during program activities? How do you ensure safety? Is there any type of technical assistance or training that Federal agencies could offer to support your mission?

16. What tools do you use to evaluate the effectiveness of your program and veteran experiences with your program?

17. What outcomes has your program accomplished? Please describe.

18. How can coordination between VA and public land agencies or managers be strengthened? Are there examples that could be used as a model?

19. Does your organization have corporate sponsorships or partner with the sports or recreation industry? If so, how did you develop those relationships?

B. Identify barriers that exist to providing veterans with opportunities to augment the delivery of services for health and wellness through the use of outdoor recreation on public lands and other outdoor spaces (section 203(d)(1)(B)).

1. What barriers have you experienced that make it challenging to provide veterans with outdoor recreation opportunities to augment their health and wellness with respect to public lands managed by the Federal Government? What specific measures would address these barriers and make nature-based or outdoor recreation programs more available on Federal public lands?

2. What barriers have you experienced that make it challenging to provide veterans with outdoor recreation opportunities to augment their health and wellness with respect to public lands managed by State governments? What specific measures would make nature-based or outdoor recreation programs more available on State public lands?

3. What barriers have you experienced that make it challenging to provide veterans with outdoor recreation opportunities to augment their health and wellness with respect to public lands managed by local governments? What specific measures would make nature-based or outdoor recreation programs more available on local public lands?

4. Are there other barriers that you or the veterans you serve have encountered that interfere with veterans' access to public lands?

5. Do you offer adaptive equipment for disabled veterans (e.g., recumbent bicycles, hand cycles, sit-skis, etc.)? If yes, what type?

6. Are veterans required to sign liability waivers to participate in your activities?

7. Are there recreation activities/experiences your organization would like to offer but is currently unable to do so? If so, what are these activities, and what prevents you from being able to offer them?

C. Develop recommendations to better facilitate the use of public lands and other outdoor spaces for promoting wellness and facilitating the delivery of health care and therapeutic interventions for veterans (section 203(d)(1)(C)).

1. What specific actions could the Task Force consider to better facilitate the use of public lands for promoting wellness to veterans?

2. Which health and therapeutic interventions for veterans should be prioritized and why?

3. How can VA and other Federal agencies better communicate the various types of programs that exist to support and facilitate veteran participation in wellness activities using public lands?

4. What type of research should VA and other Federal agencies carry out to address gaps in the evidence base on health outcomes related to outdoor recreation activities for veterans?

5. Is there any type of training or technical assistance that Federal agencies could provide to your organization to enhance or facilitate your group's ability to offer outdoor recreational activities and experiences to veterans and their families and caregivers?

6. Do you have any other suggestions or comments to facilitate the use of public lands by veterans and their families and caregivers? If so, please share them.

Signing Authority: Denis McDonough, Secretary of Veterans Affairs, approved this document on January 27, 2022 and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2022-03734 Filed 2-22-22; 8:45 am]

BILLING CODE 8320-01-P